DEPARTMENT OF COMMERCE

International Trade Administration

[A-351-841]

Polyethylene Terephthalate Film, Sheet and Strip From Brazil: Preliminary Results of Antidumping Duty Administrative Review; 2013-2014

AGENCY: Enforcement and Compliance, International Trade Administration, Department of Commerce.

DATES: Effective Date: August 12, 2015.

SUMMARY: In response to requests from DuPont Teijin Films, Mitsubishi Polyester Film, Inc., and SKC, Inc. (collectively, Petitioners), the Department of Commerce (the Department) initiated an administrative review of the antidumping duty order on polyethylene terephthalate film, sheet and strip (PET film) from Brazil.¹ On February 6, 2015, the Department published, in the Federal Register, a notice of revocation of the antidumping duty order on PET film from Brazil, effective November 10, 2013.² Accordingly, this administrative review covers Terphane Ltda. and Terphane Inc. (collectively, Terphane) for the period of review (POR) November 1, 2013, through November 9, 2013. As we currently have no evidence of any reviewable entries, shipments or sales of subject PET film by Terphane during the POR, we are issuing a preliminary no shipment determination.³

¹ See Initiation of Antidumping and Countervailing Duty Administrative Reviews, 79 FR 76956 (December 23, 2014).

² See Polyethylene Terephthalate Film, Sheet, and Strip From Brazil, the People's Republic of China, and the United Arab Emirates: Continuation and Revocation of Antidumping Duty Orders, 80 FR 6689 (February 6, 2015) (Notice of Revocation).

³ Terphane is the only respondent in this review.

FOR FURTHER INFORMATION CONTACT: Tyler Weinhold or Robert James, AD/CVD Operations, Office VI, Enforcement and Compliance, International Trade Administration, U.S. Department of Commerce, 14th Street and Constitution Avenue NW., Washington, DC 20230; telephone: (202) 482-1121 or (202) 482-0649, respectively.

SUPPLEMENTARY INFORMATION:

Scope of the Order

The products covered by this order are all gauges of raw, pre-treated, or primed PET film, whether extruded or co-extruded. PET film is classifiable under subheading 3920.62.00.90 of the Harmonized Tariff Schedule of the United States.⁴

⁴ For a full description of the scope of the order, see “Decision Memorandum for the Preliminary Results of the Antidumping Duty Administrative Review of Polyethylene Terephthalate Film, Sheet and Strip from Brazil: 2013-2014,” from Christian Marsh, Deputy Assistant Secretary for Antidumping and Countervailing Duty Operations, to Paul Piquado, Assistant Secretary for Enforcement and Compliance (Preliminary Decision Memorandum), dated concurrently with these results and hereby adopted by this notice.

Methodology

The Department is conducting this review in accordance with section 751(a)(2) of the Tariff Act of 1930, as amended (the Act). For a full description of the methodology underlying our conclusions, see Preliminary Decision Memorandum. The Preliminary Decision Memorandum is a public document and is on file electronically via Enforcement and Compliance's Antidumping and Countervailing Duty Centralized Electronic Service System (ACCESS). ACCESS is available to registered users at http://access.trade.gov and in the Central Records Unit, room B8024 of the main Department of Commerce building. In addition, a complete version of the Preliminary Decision Memorandum can be accessed directly on the Internet at http://www/trade.gov/frn/index.html. The signed Preliminary Decision Memorandum is identical in content.

Preliminary Determination of No Shipments

Based on information Terphane submitted after the initiation of this administrative review and information collected from U.S. Customs and Border Protection (CBP), the Department has preliminarily determined that the record evidence indicates that Terphane currently had no reviewable entries during the POR. In addition, the Department finds that it is not appropriate to rescind the review with respect to Terphane but, rather, to complete the review and issue appropriate instructions to CBP based on the final results of this review, as is our practice.⁵

⁵ See, e.g., Certain Frozen Warmwater Shrimp From Thailand: Preliminary Results of Antidumping Duty Administrative Review and Intent To Revoke the Order (in Part); 2011-2012, 78 FR 15686 (March 12, 2013) and the accompanying Decision Memorandum at 7 to 8.

Assessment Rates

The Department clarified its “automatic assessment” regulation on May 6, 2003. This clarification will apply to entries of subject merchandise during the POR produced by companies included in these final results of review for which these companies did not know that the merchandise was destined for the United States. In such instances, we will instruct CBP to liquidate un-reviewed entries at the all-others rate if there is no rate for the intermediate company(ies) involved in the transaction. For a full discussion of this clarification, see Antidumping and Countervailing Duty Proceedings: Assessment of Antidumping Duties, 68 FR 23954 (May 6, 2003). We intend to issue assessment instructions directly to CBP 15 days after publication of the final results of this review.

Disclosure and Public Comment

Interested parties are invited to comment on these preliminary results and submit written arguments or case briefs within 30 days after the date of publication of this notice, unless otherwise notified by the Department.⁶ Parties are reminded that written comments or case briefs are not the place for submitting new factual material. Rebuttal briefs, limited to issues raised in the case briefs, will be due five days later.⁷ Parties who submit case or rebuttal briefs are requested to submit with each argument: (1) A statement of the issue; and (2) a brief summary of the argument. Parties are requested to provide a summary of the arguments not to exceed five pages and a table of statutes, regulations, and cases cited.

⁶ See 19 CFR 351.309(c)(ii).

⁷ See 19 CFR 351.309(d).

Any interested party who wishes to request a hearing must submit a written request to the Assistant Secretary for Enforcement and Compliance within 30 days after the day of publication of this notice. A request should contain: (1) The party's name, address, and telephone number; (2) the number of participants; and (3) a list of issues to be discussed.⁸ Issues raised in the hearing will be limited to those raised in case briefs. The Department will issue the final results of administrative review, including the results of our analysis of issues raised in any briefs, within 90 days after the date on which the preliminary results were issued, unless the deadline for the final results is extended.⁹

⁸ See 19 CFR 351.310(c).

⁹ See 19 CFR 351.214(i).

Notification to Importers

This notice serves as a preliminary reminder to the importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This notice is published in accordance with sections 751(a)(2)(B) and 777(i) of the Act and 19 CFR 351.214(f).

Dated: August 3, 2015.
Ronald K. Lotentzen,
Deputy Assistant Secretary for Enforcement and Compliance.

[FR Doc. 2015-19845 Filed 8-11-15; 8:45 am]

BILLING CODE 3510-DS-P